DEPARTMENT OF HOMELAND SECURITY

[DHS-2019-0029]

Project 25 Compliance Assessment Program (P25 CAP)

AGENCY: Science and Technology Directorate, Department of Homeland Security.

ACTION: Notice of information collection; request for comment.

SUMMARY: The Department of Homeland Security (DHS) invites the general public to comment on updated data collection forms for DHS Science and Technology (S&T) Directorate's Project 25 (P25) Compliance Assessment Program (CAP): Supplier's Declaration of Compliance (SDoC) (DHS Form 10044 (6/08)) and an accompanying Summary Test Report (STR) (DHS Form 10056 (9/08)). The collections are posted on the dhs.gov website (https://www.dhs.gov/science-and-technology/p25-cap). The attacks of September 11, 2001, and the destruction of Hurricane Katrina made apparent the need for emergency response radio systems that can interoperate, regardless of which organization manufactured the equipment. Per congressional direction, DHS and the National Institute of Standards and Technology (NIST) developed the P25 CAP to improve the emergency response community's confidence in purchasing land mobile radio (LMR) equipment built to P25 LMR standards. Equipment suppliers provide the information to publicly attest to their products' compliance with a specific set of P25 standards. The SDoC, and its STR, which substantiates the declaration, constitutes a company's formal, public attestation of compliance with the standards for the equipment. In turn, first responders at local, tribal, state, and federal levels across multiple disciplines including law enforcement, fire, and emergency medical services personnel, will use this information to identify P25 compliant communications system products. The P25 CAP Program Manager performs a simple administrative review to ensure the documentation is complete and accurate in accordance with the current P25 CAP processes.

DATES: Comments are encouraged and accepted until July 31, 2019.

ADDRESSES: Interested persons are invited to submit written comments on this proposed information collection to the Office of Information and Regulatory Affairs, Office of Management and Budget. Comments should be addressed to the OMB Desk Officer, via electronic mail to dhsdeskofficer@omb.eop.gov.

FOR FURTHER INFORMATION CONTACT: DHS/S&T System Owner: Sridhar Kowdley, Sridhar.kowdley@HQ.DHS.GOV, (202) 254-8804 (Not a toll free number).

SUPPLEMENTARY INFORMATION: DHS, in accordance with the Paperwork Reduction Act (PRA), 44 U.S.C. 3501 et seq., provides the general public and Federal agencies with an opportunity to comment on proposed, revised, and continuing collection of information. DHS is soliciting comments on the proposed Information Collection Request (ICR) that is described below. The Department of Homeland Security is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collections: Project 25 (P25) Compliance Assessment Program (CAP): Supplier's Declaration of Compliance (SDoC) (DHS Form 10044 (6/08) and Summary Test Report (STR) (DHS Form 10056 (9/08)).

Prior OMB Control Number: 1640-0015.

Prior Federal Register Document: 2018-0073, April 5, 2019.

Type of Review: Renewal of an information collection.

Affected Public: Federal, State, Local, and Tribal Governments.

Frequency of Collections: The SDOC is once per month and the STR is once annually.

Average Burden per Response: 60 minutes.

Total Estimated Number of Annual Responses: 156.

Total Estimated Number of Annual Burden Hours: 156.

Gregg Piermarini,
Acting Chief Information Officer, Science and Technology Directorate.

[FR Doc. 2019-14000 Filed 6-28-19; 8:45 am]

BILLING CODE 9110-9F-P